DEPARTMENT OF TRANSPORTATION

Pipeline and Hazardous Materials Safety Administration

Hazardous Materials: Notice of Applications for Modifications to Special Permit

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before May 25, 2021.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-30, 1200 New Jersey Avenue Southeast, Washington DC.

This notice of receipt of applications for special permit is published in accordance with part 107 of the Federal hazardous materials transportation law (49 U.S.C. 5117(b); 49 CFR 1.53(b)).

Issued in Washington, DC, on May 3, 2021.
Donald P. Burger,
Chief, General Approvals and Permits Branch.

Application No. | Applicant | Regulation(s) affected | Nature of the special permits thereof
Special Permits Data
10970-M | Luxfer Inc | 173.302a(a)(1), 173.304a(a), 173.304a(d) | To modify the special permit to authorize additional Division 2.2 gases, to modify the safety control measures to more accurately reflect what type of fiber is used and to waive the elastic expansion requirement. (modes 1, 2, 3, 4, 5).
12783-M | Cool Renewal, LLC | 173.304a(a)(1), 173.306(a) | To modify the special permit to authorize the transportation in commerce of small units of certain compressed gas, intended for medical use as limited quantities. (modes 1, 2, 3, 4, 5).
14661-M | FIBA Technologies, Inc | 180.209(a), 180.209(a), 180.209(b)(1), 180.209(b)(1)(iv) | To modify the special permit to authorize additional Division 2.1 and 2.2 hazmat. (modes 1, 2, 3).
15036-M | UTLX Manufacturing Incorporated | 172.203(a), 172.302(c), 173.244, 173.1, 173.3, 173.314, 173.31(e), 179.102-2, 179.102-3, 179.15, 179.16 | To modify the special permit to remove the requirement for visual inspection of areas needing access via cut-out ports in the support structure. (mode 2).
20639-M | ICC The Compliance Center Inc | 172.200, 172.300, 172.600, 172.700(a), 172.400, 172.500, 173.185(f) | To modify the special permit to authorize the use of EXTOVER fire suppressant material in shipments. (modes 1, 2, 3).
20881-M | Arkema Inc | 172.102(c)(7) | To modify the special permit to authorize additional tanks. (mode 1).
21136-M | Cimarron Composites, LLC | 173.302(a)(1) | To modify the special permit to remove references to insulated tubes. (modes 1, 2, 3).
21185-M | Hach Company | 172.102(b)(4), 173.36(a) | To modify the permit to authorize additional Class 8 hazmat. (Mode 1).

[FR Doc. 2021-09822 Filed 5-7-21; 8:45 am]

BILLING CODE 4910-60-P